DEPARTMENT OF JUSTICE

Antitrust Division

Notice Pursuant to the National Cooperative Research and Production Act of 1993—National Starch & Chemical Company

Notice is hereby given that, on March 27, 2000, pursuant to section 6(a) of the National Cooperative Research and Production Act of 1993, 15 U.S.C. 4301 et seq. (“the Act”), National Starch & Chemical Company has filed written notifications simultaneously with the Attorney General and the Federal Trade Commission disclosing (1) The identifies of the parties and (2) the nature and objectives of the venture. The notifications were filed for the purpose of invoking the Act's provisions limiting the recovery of antitrust plaintiffs to actual damages under specified circumstances. Pursuant to Section 6(b) of the Act, the identities of the parties are National Starch & Chemical Company, Bridgewater, NJ; and International Business Machines, Yorktown Heights, NY. The nature and objectives of the venture are to develop novel, wafer level, high performance underfill technology.

Constance K. Robinson,
Director of Operations, Antitrust Division.

[FR Doc. 00-16477 Filed 6-28-00; 8:45 am]

BILLING CODE 4410-11-M